DEPARTMENT OF EDUCATION

2 CFR Part 3474

34 CFR Parts 99, 200, and 299

[Docket ID ED-2016-OESE-0032; Docket ID ED-2015-OS-0105]

RIN 1810-AB27; 1894-AA07

Elementary and Secondary Education Act of 1965, as Amended by the Every Student Succeeds Act—Accountability and State Plans; Open Licensing Requirement for Competitive Grant Programs; Family Educational Rights and Privacy Act

AGENCY: Office of Elementary and Secondary Education; Office of the Chief Privacy Officer, Office of Management; Office of the Secretary; Department of Education.

ACTION: Final regulations; delay of effective dates.

SUMMARY: In accordance with the memorandum of January 20, 2017, from the Assistant to the President and Chief of Staff, entitled “Regulatory Freeze Pending Review,” published in the Federal Register on January 24, 2017, the Department delays the effective dates of the following regulations until March 21, 2017: Elementary and Secondary Education Act of 1965, as Amended by the Every Student Succeeds Act—Accountability and State Plans (ESSA Accountability and State Plans), RIN 1810-AB27; Open Licensing Requirement for Competitive Grant Programs (Open Licensing), RIN 1894-AA07; and Family Educational Rights and Privacy Act.

DATES: Effective January 30, 2017, the effective date of the final rules published on November 29, 2016 at 81 FR 86076; January 19, 2017 at 82 FR 7376; and January 19, 2017 at 82 FR 6252, respectively, is delayed to March 21, 2017.

FOR FURTHER INFORMATION CONTACT: Hilary Malawer, Assistant General Counsel, U.S. Department of Education, 400 Maryland Avenue SW., Room 6E231, Washington, DC 20202. Telephone: (202) 401-6148 or by email: hilary.malawer@ed.gov.

If you use a telecommunications device for the deaf or text telephone, call the Federal Relay Service, toll free, at 1-800-877-8339.

SUPPLEMENTARY INFORMATION: On January 20, 2017, the Assistant to the President and Chief of Staff issued a memorandum entitled, “Regulatory Freeze Pending Review.” This memorandum directed heads of executive departments and agencies to take certain steps to ensure that the President's appointees and designees have the opportunity to review new or pending regulations. It instructed agencies to temporarily postpone the effective dates of regulations that had been published in the Federal Register but were not yet effective until 60 days after the date of the memorandum (January 20, 2017). In accordance with that directive, the Department is delaying the effective dates of the regulations listed below as follows:

RIN | Title | Agency contact | Original effective date | Delayed effective date
1810-AB27 | ESSA-Accountability and State Plans | Meredith Miller, OESE (202) 401-8368 Meredith.Miller@ed.gov | January 30, 2017 | March 21, 2017.
1894-AA07 | Open Licensing Requirement for Competitive Grant Programs | Sharon Leu, Office of the Secretary (202) 453-5646 tech@ed.gov | March 20, 2017 | March 21, 2017.
2017-00958 | Family Educational Rights and Privacy Act | Kathleen Styles, Office of Management (855) 249-3072 PrivacyTA@ed.gov | February 21, 2017 | March 21, 2017.

This is the first of several regulatory actions the Department intends to take regarding regulations that have been published in the Federal Register but had not taken effect as of January 20, 2017, including the Department's regulations for Borrower Defense (RIN 1840-AD19), TEACH Grants (RIN 1840-AD07), and State Authorization (RIN 1840-AD20) issued under title IV of the Higher Education Act of 1965, as amended.

Waiver of Rulemaking and Delayed Effective Date: Under the Administrative Procedure Act (APA) (5 U.S.C. 553), the Department generally offers interested parties the opportunity to comment on proposed regulations and publishes rules not less than 30 days before their effective dates. However, the APA provides that an agency is not required to conduct notice-and-comment rulemaking or delay effective dates when the agency, for good cause, finds that the requirement is impracticable, unnecessary, or contrary to the public interest (5 U.S.C. 553(b)(B) and (d)(3)). There is good cause to waive both of these requirements here as the President's appointees and designees need to delay the effective dates of these regulations to have adequate time to review new or pending regulations, and neither the notice and comment processes nor delayed effective date could be implemented in time to allow for this review.

Accessible Format: Individuals with disabilities may obtain this document in an accessible format (e.g., braille, large print, audiotape, or compact disc) on request to the contact person listed under FOR FURTHER INFORMATION CONTACT.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Portable Document Format (PDF). To use PDF you must have Adobe Acrobat Reader, which is available free at the site.

You may also access documents of the Department published in the Federal Register by using the article search feature at: www.Federal Register.gov. Specifically, through the advanced search feature at this site, you can limit your search to documents published by the Department.

List of Subjects

2 CFR Part 3474

Accounting; Administrative practice and procedure; Adult education; Aged; Agriculture; American Samoa; Bilingual education; Blind; Business and industry; Civil rights; Colleges and universities; Communications; Community development; Community facilities; Copyright; Credit; Cultural exchange programs; Educational facilities; Educational research; Education; Education of disadvantaged; Education of individuals with disabilities; Educational study programs; Electric power; Electric power rates; Electric utilities; Elementary and secondary education; Energy conservation; Equal educational opportunity; Federally affected areas; Government contracts; Grant programs; Grant programs-agriculture; Grant programs-business and industry; Grant programs-communications; Grant programs-education; Grant programs-energy; Grant programs-health; Grant programs-housing and community development; Grant programs-social programs; Grant administration; Guam; Home improvement; Homeless; Hospitals; Housing; Human research subjects; Indians; Indians-education; Infants and children; Insurance; Intergovernmental relations; International organizations; Inventions and patents; Loan programs; Loan programs social programs; Loan programs-agriculture; Loan programs-business and industry; Loan programs-communications; Loan programs-energy; Loan programs-health; Loan programs-housing and community development; Manpower training programs; Migrant labor; Mortgage insurance; Nonprofit organizations; Northern Mariana Islands; Pacific Islands Trust Territories; Privacy; Renewable Energy; Reporting and recordkeeping requirements; Rural areas; Scholarships and fellowships; School construction; Schools; Science and technology; Securities; Small businesses; State and local governments; Student aid; Teachers; Telecommunications; Telephone; Urban areas; Veterans; Virgin Islands; Vocational education; Vocational rehabilitation; Waste treatment and disposal; Water pollution control; Water resources; Water supply; Watersheds; Women.

34 CFR Part 99

Administrative practice and procedure; Privacy; Reporting and recordkeeping requirements; Students.

34 CFR Part 200

Elementary and secondary education; Grant programs-education; Indians-education; Infants and children; Juvenile delinquency; Migrant labor; Private schools; Reporting and recordkeeping requirements.

34 CFR Part 299

Administrative practice and procedure; Elementary and secondary education; Grant programs-education; Private schools; Reporting and recordkeeping requirements.

Dated: January 26, 2017.
Philip H. Rosenfelt,
Acting Secretary of Education.

[FR Doc. 2017-02056 Filed 1-27-17; 8:45 am]

BILLING CODE 4000-01-P